DEPARTMENT OF HOMELAND SECURITY

U.S. Customs and Border Protection

DEPARTMENT OF AGRICULTURE

Forest Service

Bog Creek Road Project Draft Environmental Impact Statement; Reopening of Comment Period

AGENCY: U.S. Customs and Border Protection, Department of Homeland Security and United States Department of Agriculture, Forest Service.

ACTION: Notice of reopening of comment period.

SUMMARY: This document provides additional time for interested parties to submit comments on the Bog Creek Road Project Draft Environmental Impact Statement (Draft EIS) concerning the repair and maintenance of Bog Creek Road and closure of certain roads within the Blue-Grass Bear Management Unit in the Selkirk Mountains in Boundary County, Idaho. U.S. Customs and Border Protection (CBP) and the United States Department of Agriculture, Forest Service (USDA, Forest Service) Idaho Panhandle National Forests (IPNF) (collectively, the Agencies) published a Notice of Availability of the Draft EIS in the Federal Register on June 1, 2018, with comments due on or before July 16, 2018. In the interest of receiving well thought out and developed comments from stakeholders, the Agencies are reopening the comment period until July 31, 2018.

DATES: The comment period for the Draft EIS published at 83 FR 25472 on June 1, 2018, is reopened. Comments must be received on or before July 31, 2018.

ADDRESSES:

For Obtaining Copies of the Draft EIS: Electronic copies of the Draft EIS are available at https://www.fs.usda.gov/project/?project=41296 and https://www.cbp.gov/document/environmental-assessments/bog-creek-road-project-environmental-impact-statement.

CD-ROM and print copies are available by sending a request to Paul Enriquez at Paul.Enriquez@cbp.dhs.gov or 949-643-6365 or at the following USDA, Forest Service locations:

• The IPNF Supervisors Office, 3815 Schreiber Way, Coeur d'Alene, Idaho;

• Sandpoint Ranger District, 1602 Ontario Street, Sandpoint, Idaho;

• Bonners Ferry Ranger District, 6286 Main Street, Bonners Ferry, Idaho; and

• Priest Lake Ranger District, 32203 Highway 57, Priest River, Idaho

For Submitting Comments: You may submit written comments on the Draft EIS by mail or email. See SUPPLEMENTARY INFORMATION for information on the public comment process. Please submit your written comments using one of the following methods:

• Mail: Bog Creek Road EIS, P.O. Box 643, Flagstaff, Arizona 86002-0643;

• Email: SPWBogCreekEIS@cbp.dhs.gov;

• Hand delivered to any of the USDA, Forest Service locations where CD-ROM and print copies of the Draft EIS are available; or

• FAX: 208-765-7426.

FOR FURTHER INFORMATION CONTACT: Paul Enriquez, CBP, Border Patrol and Air and Marine Program Management Office, by telephone at 949-643-6365, or email at Paul.Enriquez@cbp.dhs.gov. Persons who require assistance accessing information, please contact the U.S. Department of Agriculture's (USDA) Target Center at 202-720-2600 (voice and TDD) or contact USDA through the Federal Relay Service at 800-877-8339.

SUPPLEMENTARY INFORMATION:

Public Comments

Interested persons are invited to submit written comments on all aspects of the Draft EIS. Comments that will provide the most assistance to the Agencies will reference a specific section of the Draft EIS, explain the reason for any recommended change, and include data, information, or authority that supports such recommended change. Substantive comments received during the comment period will be addressed in the Final Environmental Impact Statement (Final EIS). The Final EIS will be made available to the public through a Notice of Availability (NOA) in the Federal Register.

This project is subject to 36 CFR part 218, subparts A and B of the USDA, Forest Service's Project-level Pre-decisional Administrative Review Process. Pursuant to 36 CFR part 218, only those who provide timely and specific written comments regarding the proposed project during a comment period are eligible to file an objection with the USDA, Forest Service. Comments received regarding this Draft EIS are considered part of the administrative record for the National Environmental Policy Act (NEPA) review. Within this context, a commenter's personally identifiable information, such as name and contact information, may be released to a third party upon request under the Freedom of Information Act. Comments submitted anonymously, without a name and contact information, will be accepted and considered; however, anonymous comments will not provide the commenter with standing to participate in the USDA, Forest Service objection process.

This process is being conducted pursuant to the NEPA (42 U.S.C. 4321 et seq.), the President's Council on Environmental Quality Regulations for Implementing the NEPA (40 CFR parts 1500-1508), DHS Directive 023-01 and Instruction 023-01-001-01, and CBP and USDA, Forest Service NEPA guidelines.

Background

U.S. Customs and Border Protection (CBP) and the United States Department of Agriculture, Forest Service (USDA, Forest Service) Idaho Panhandle National Forests (IPNF) (collectively, the Agencies) published a notice in the Federal Register (83 FR 25472) on June 1, 2018, announcing the availability of the Bog Creek Road Project Draft Environmental Impact Statement (Draft EIS). That document solicited public comments and requested that comments be received no later than July 16, 2018.

Reopening of Comment Period

Several stakeholders have requested that the Agencies extend the comment period so that they can take additional time to review the proposed action and alternatives and submit worthwhile comments. The Agencies believe that it is very important to receive well thought out and developed comments in the formulation of the Bog Creek Road Project Final Environmental Impact Statement. Therefore, the Agencies have decided to allow additional time for the public to submit comments on the Draft EIS. Accordingly, the comment period is reopened until July 31, 2018, and comments must be received on or before that date.

Dated: July 18, 2018.
Christopher Oh,
Director, Energy & Environmental Management Division U.S. Customs and Border Protection.
Gregory C. Smith,
Acting Associate Deputy Chief, National Forest System, U.S. Forest Service.

[FR Doc. 2018-15684 Filed 7-19-18; 8:45 am]

BILLING CODE 9111-14-P